ELECTION ASSISTANCE COMMISSION

Meeting: EAC 2020 Elections Summit

AGENCY: U.S. Election Assistance Commission.

ACTION: EAC 2020 Elections Summit.

DATES: Tuesday, January 14, 2020, 9:00 a.m.-4:00 p.m. (EDT).

ADDRESSES: The National Press Club, 529 14th Street NW, Washington, DC 20045.

Status: This summit will be open to the public.

FOR FURTHER INFORMATION CONTACT: Robin Sargent, Telephone: (301) 563-3937.

SUPPLEMENTARY INFORMATION:

Purpose: In accordance with the Government in the Sunshine Act (Sunshine Act), Public Law 94-409, as amended (5 U.S.C. 552b), the U.S. Election Assistance Commission (EAC) will conduct an open meeting to discuss important issues facing state and local election officials in 2020.

Agenda: The U.S. Election Assistance Commission (EAC) will host an all-day summit to highlight important issues facing state and local election officials as they work to prepare for the 2020 primaries and general elections. Panel discussions will cover the following topics: (1) Turnout; (2) Election Security; (3) Voting Accessibility; and (4) Poll Workers. The full agenda will be posted in advance on the EAC website: https://www.eac.gov.

The summit will be livestreamed and recorded. The recording will be made available on the EAC website at a later date.

As space is limited, attendees are encouraged to register. Registration instructions and additional event information will be posted on the EAC event web page: eac.gov/events/2020/01/14/us-election-assistance-commission-2020-elections-summit/.

Nichelle S. Williams,
Director of Research, U.S. Election Assistance Commission.

[FR Doc. 2019-28418 Filed 1-6-20; 8:45 am]

BILLING CODE 6820-KF-P